DEPARTMENT OF STATE

[Public Notice 6403]

Culturally Significant Objects Imported for Exhibition Determinations: “Fragment to Vase: Approaches to Ceramic Restoration”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the five objects to be included in the exhibition “Fragment to Vase: Approaches to Ceramic Restoration,” imported from abroad for temporary exhibition within the United States, are of cultural significance. The objects are imported pursuant to a loan agreement with the foreign owner or custodian. I also determine that the exhibition or display of two of these objects at the Getty Villa, Malibu, CA, from on or about December 18, 2008, until on or about June 1, 2009, and at possible additional exhibitions or venues yet to be determined, is in the national interest. I also determine that the exhibition or display of the remaining three objects at the Getty Villa, Malibu, CA, from on or about January 1, 2013, until on or about September 1, 2013, and at possible additional exhibitions or venues yet to be determined, is in the national interest. Public Notice of these Determinations is ordered to be published in the Federal Register.

FOR FURTHER INFORMATION CONTACT: For further information, including a list of the exhibit objects, contact Julie Simpson, Attorney-Adviser, Office of the Legal Adviser, U.S. Department of State (telephone: (202) 453-8050). The address is U.S. Department of State, SA-44, 301 4th Street, SW., Room 700, Washington, DC 20547-0001.

Dated: October 10, 2008.
C. Miller Crouch,
Principal Deputy Assistant Secretary for Educational and Cultural Affairs, Department of State.

[FR Doc. E8-24724 Filed 10-16-08; 8:45 am]

BILLING CODE 4710-05-P